DEPARTMENT OF STATE

[Public Notice 5964]

Shipping Coordinating Committee; Notice of Meeting

The Subcommittee on IMO Administration and Budgeting of the Shipping Coordinating Committee (SHC) will conduct an open meeting from 9:30 to noon on Friday, 9 November 2007, in Room 6103, at U.S. Coast Guard Headquarters, 2100 Second St., SW., Washington, DC 20593. The purpose of the meeting is to finalize preparations for the 24th Extraordinary Session of Council, 99th Session of Council and 25th Session of the Assembly of the International Maritime Organization (IMO), which are scheduled for 15-30 November 2007, in London. Discussion will focus on papers received and draft U.S. positions.

Agenda items of particular interest include: Reports of IMO Committees; Reports on Diplomatic Conferences; IMO Work Program and Budget for 2008-2009; and Election of Members of IMO Council.

Members of the public may attend this SHC meeting up to the seating capacity of the room. Interested persons may seek information by writing: Director, National and International Standards, U.S. Coast Guard Headquarters, Commandant (CG-52), Room 1304, 2100 2nd St., SW., Washington, DC 20593 or by contacting LCDR Kevin Ferrie at (202) 372-1357 or Kevin.B.Ferrie@uscg.mil.

Dated: October 18, 2007.
Mark W. Skolnicki,
Executive Secretary, Shipping Coordinating, Committee, Department of State.

[FR Doc. 07-5373 Filed 10-26-07; 8:45 am]

BILLING CODE 4710-09-M